DEPARTMENT OF JUSTICE

Notice of Lodging of Consent Decree Pursuant to the Clean Air Act and the Resource Conservation and Recovery Act

In accordance with Departmental Policy, 28 CFR 50.7, notice is hereby given that on March 4, 2004, a proposed consent decree in United States and Kansas Department of Health and Environment, ex rel. State of Kansas v. Coffeyville Resources Refining & Marketing, LLC and Coffeyville Resources Terminal, LLC, Docket No. 04-1064-MLB, was lodged with the United States District Court for the District of Kansas. In this action brought pursuant to the Clean Air Act (“CAA”) and the Resource Conservation and Recovery Act (“RCRA”), the United States has requested the imposition of injunctive relief on the defendants. This action arose out of the defendants' recent acquisition of certain assets of Farmland Industries, Inc., including a refinery in Coffeyville, Kansas, and a terminal in Phillipsburg, Kansas. The United States has alleged that the refinery and terminal failed to meet several requirements of CAA and RCRA over a period of several years.

The Consent Decree requires the defendants to perform CAA injunctive relief at the refinery, and to provide financial assurance pursuant to RCRA for the refinery and the terminal The Consent Decree obliges the defendants to, among other things: (1) Install Best Available Control Technology emissions controls, specifically a Wet Gas Scrubber to control sulfur dioxide emissions and Selective Catalytic Reduction to control NOx emissions, by 2010; (2) implement interim measures to reduce emissions of sulfur dioxide and NOx; (3) implement a program for controlling benzene emissions; (4) control particulate and VOC emissions; and (5) provide financial assurance for RCRA corrective action totaling $15 million.

The Department of Justice will receive for a period of thirty (30) days from the date of this publication comments relating to the proposed consent decree. Comments should be addressed to the Assistant Attorney General, United States Department of Justice, Environment and Natural Resources Division, Post Office Box 7611, Ben Franklin Station, Washington, DC 20044-7611 and should refer to United States and State of Kansas v. Coffeyville Resources, D.J. Ref. No. 90-5-2-1-07459/1.

The proposed consent decree may be examined at the office of the United States Environmental Protection Agency Region 7, 901 N. 5th Street, Kansas City, Kansas 66101. During the comment period the consent decree may be examined on the Department of Justice Web site, http://www.usdoj.gov/enrd/open.html. A copy of the consent decree may also be obtained by mail from the Consent Decree Library, Post Office Box 7611, Ben Franklin Station, Washington, DC 20044-7611 or by faxing or e-mailing a request to Tonia Fleetwood (tonia.fleetwood@usdog.job), fax number (202) 514-0097, telephone confirmation number (202) 514-1547. In requesting a copy by mail, please enclose a check in the amount of $27.00 for United States and State of Kansas v. Coffeyville Resources (25 cents per page reproduction cost) payable to the U.S. Treasury.

Robert E. Maher, Jr.
Assistant Section Chief, Environmental Enforcement Section.

[FR Doc. 04-6059 Filed 3-17-04; 8:45 am]

BILLING CODE 4410-15-M